DEPARTMENT OF HEALTH AND HUMAN SERVICES

Centers for Disease Control and Prevention

[30 Day-21-0214]

Agency Forms Undergoing Paperwork Reduction Act Review

In accordance with the Paperwork Reduction Act of 1995, the Centers for Disease Control and Prevention (CDC) has submitted the information collection request titled National Health Interview Survey (NHIS) to the Office of Management and Budget (OMB) for review and approval. CDC previously published a “Proposed Data Collection Submitted for Public Comment and Recommendations” notice on April 16, 2020 to obtain comments from the public and affected agencies. CDC received five comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Health Interview Survey (NHIS) (OMB Control No. 0920-0214, Exp. 12/31/2020)—Revision—National Center for Health Statistics (NCHS), Centers for Disease Control and Prevention (CDC).

Background and Brief Description

Section 306 of the Public Health Service (PHS) Act (42 U.S.C.), as amended, authorizes that the Secretary of Health and Human Services (HHS), acting through NCHS, shall collect statistics on the extent and nature of illness and disability of the population of the United States.

The annual National Health Interview Survey (NHIS) is a major source of general statistics on the health of the U.S. population and has been in the field continuously since 1957. This voluntary and confidential household-based survey collects demographic and health-related information from a nationally representative sample of households and noninstitutionalized, civilian persons throughout the country. NHIS data have long been used by government, academic, and private researchers to evaluate both general health and specific issues, such as smoking, diabetes, health care coverage, and access to health care. The survey is also a leading source of data for the Congressionally mandated “Health US” and related publications, as well as the single most important source of statistics to track progress toward HHS health objectives.

The NHIS sample adult and sample child questionnaires include annual core content that is scheduled to be fielded in the survey every year, rotating content that is fielded periodically, emerging content to address new topics of growing interest, and sponsored content that is fielded when external funding is available. In July 2020, content related to the COVID-19 pandemic and for which emergency OMB clearance was obtained on June 22, 2020 was added to both the sample adult and sample child questionnaires. Items on positive COVID-19 cases, and access to non-pandemic care were added to both the sample child and sample adult questionnaires. Items on underlying health conditions, immunosuppression, access to cancer care, access to skilled and informal caregiving, social support, impact of chronic pain, and social distancing at current or most recent job were added to the sample adult questionnaire only. All of these items will be fielded as part of the 2021 NHIS.

Sample adult content fielded in the 2020 NHIS that will be removed from the 2021 NHIS includes dental services and other provider services, physical activity, walking for transportation and leisure, sleep, fatigue, smoking history and cessation and alcohol use. Sponsored content that will be removed include content on asthma, diabetes prevention, diabetes family history, opioid use, pain management and cancer control items on lung cancer screening, environment for walking and sun care protection. Sample child content fielded in the 2020 NHIS that will be removed from the 2021 NHIS include items on dental services, mental health services, other provider services, height and weight, physical activity, neighborhood characteristics, sleep, and screen time will rotate off the sample child core. Sponsored content on asthma will be also be removed.

The 2021 rotating sample adult core will include questions that were previously fielded in the 2019 NHIS including items on chronic pain, preventive screening tests and aspirin use. New rotating core include items on allergies and psychological distress, both of which were fielded in the pre-redesigned NHIS. New sponsored content includes items on epilepsy, myalgic encephalomyelitis/chronic fatigue syndrome (ME/CFS), insulin affordability, diabetes distress, A1C testing, colorectal cancer, prostate cancer, cervical cancer and breast cancer screening, occupational health, life satisfaction, hepatitis A and B vaccination coverage, COVID-19 vaccination coverage, and loss of the sense of taste and smell. New sponsored cancer control content that focuses on cancer screenings uses questions similar to those used in the 2019 NHIS.

The 2021 rotating sample child core will include items on stressful life events previously fielded in 2019 and on allergies, fielded in the pre-redesigned NHIS. New content included for analyses in conjunction with the adolescent follow-back study (see below) includes items on social and emotional support, bullying, health care utilization and life satisfaction.

Beginning around July 1, interviewers will ask the respondents for sample children aged 12-17 (usually the parent or guardian) for permission to contact the adolescent by web, phone, or mail and to ask follow-up questions about topics (1) already included in the sample child NHIS and (2) topics added to the sample child specifically related this follow-back. The adolescent questionnaire will be conducted web phone, or mail and include items on general health and well-being, height and weight, health care utilization, content of care in past year (or at last wellness visit), health care access, use of complementary and alternative health, physical activity, sleep, screen time, cognition, concussions, behavior, depression and anxiety, sexual orientation and gender identity, mental health care use and unmet need, social support, stressful life events, bullying, everyday discrimination, and demographics. Items on the survey environment and experience with the survey will also be asked.

Like in past years, and in accordance with the 1995 initiative to increase the integration of surveys within the DHHS, respondents to the 2021 NHIS will serve as the sampling frame for the Medical Expenditure Panel Survey conducted by the Agency for Healthcare Research and Quality. In addition, a subsample of NHIS respondents and/or members of commercial survey panels may be identified to participate in short, web-based methodological and cognitive testing activities to evaluate the questionnaire and/or inform the development of new rotating and sponsored content using web and/or mail survey tools. In the future, a subsample of NHIS respondents may also be re-contacted for a brief health exam.

There is no cost to the respondents other than their time. Clearance is sought for three years, to collect data for 2021-2023. The total annualized burden is estimated to be 42,845 hours.

Estimated Annualized Burden Hours
Type of respondent | Form name | Number of respondents | Number of responses per respondent | Average burden per response (in hours)
Adult Household Member | Household Roster | 36,000 | 1 | 4/60
Sample Adult | Adult Questionnaire | 30,000 | 1 | 48/60
Adult Family Member | Child Questionnaire | 10,000 | 1 | 19/60
Adult Family Member | Methodological Projects | 15,000 | 1 | 20/60
Sample Child | Adolescent follow-back Survey | 1,200 | 1 | 16/60
Sample Adult | Health Exam | 10,000 | 1 | 45/60
Adult Family Member | Reinterview Survey | 5,500 | 1 | 5/60

Jeffrey M. Zirger,
Lead, Information Collection Review Office, Office of Scientific Integrity, Office of Science, Centers for Disease Control and Prevention.

[FR Doc. 2020-23265 Filed 10-20-20; 8:45 am]

BILLING CODE 4163-18-P